ENVIRONMENTAL PROTECTION AGENCY

[FRL-9911-10-Region 2]

Prevention of Significant Deterioration of Air Quality (PSD) Final Determinations in New Jersey, Puerto Rico, and the Virgin Islands

AGENCY: Environmental Protection Agency.

ACTION: Notice of final actions.

SUMMARY: The purpose of this notice is to announce that between July 1, 2008 and April 15, 2014, the Region 2 Office of the Environmental Protection Agency (EPA), issued three final agency actions and the New Jersey Department of Environmental Protection (NJDEP) issued five final agency actions pursuant to the Prevention of Significant Deterioration of Air Quality (PSD) regulations codified at 40 CFR 52.21. In addition, one previous EPA final agency action dated April 7, 2006 was inadvertently omitted in the previous Federal Register publication and has been included here.

DATES: The effective dates for the above determinations are delineated in the chart at the end of this notice (see SUPPLEMENTARY INFORMATION).

FOR FURTHER INFORMATION CONTACT: Mr. Frank Jon, Environmental Engineer of the Permitting Section, Air Programs Branch, Clean Air and Sustainability Division, Environmental Protection Agency, Region 2 Office, 290 Broadway, 25th Floor, New York, NY 10007-1866, at (212) 637-4085.

SUPPLEMENTARY INFORMATION: Pursuant to the PSD regulations, the Region 2 Office of the USEPA, and the NJDEP have made final PSD determinations relative to the facilities listed below:

Name | Location | Project | Agency | Final action | Date
Caithness Long Island, LLC | Brookhaven, New York | A new 346 MW combined-cycle electric generating facility | EPA | New PSD Permit | April 7, 2006.
West Deptford Energy, LLC | West Deptford Township, New Jersey | Two identical combined-cycle turbines each with a 2,262 MMBtu/hr higher heating value (HHV) (not including supplemental duct-firing) when firing natural gas; when duct firing is included, the maximum heat input is 2,270 MMBtu/hr HHV; one 40 MMBtu/hr auxiliary boiler; one 750 KW emergency diesel engine-driven generator; and a 300 HP diesel engine-driven fire pump and storage tanks | NJDEP | New PSD Permit | May 6, 2009.
Vineland Municipal Electric Utility (VMEU)—Howard Down Station | Vineland, New Jersey | One 64 MW Rolls Royce simple-cycle combustion turbine (Model Trent 60) with a maximum heat input of 590 MMBtu/hr when firing natural gas and 568 MMBtu/hr when firing ultra low sulfur distillate. Emission controls consists of dry low NOX combustors, water injection and Selective Catalytic Reduction for NOX; and oxidation catalyst for CO and VOC | NJDEP | New PSD Permit | September 16, 2010.
Hovensa, LLC | Christiansted, U.S. Virgin Islands | Construction and operation of a new ultra low nitrogen oxide (NOX) converter heater to replace an existing low NOX heater at the refinery's sulfuric acid plant | EPA | PSD Permit Modification | May 9, 2011.
Hovensa, LLC | Christiansted, U.S. Virgin Islands | Lower NOX emission limit when firing oil as fuel, allowing for a different NOX limit from the main stack while switching from the bypass stack to the main stack and while conducting on-line maintenance of the steam injection system. Also, a revision to the LSG Heater's permitted number of startup and shutdown cycles and to the permitted number of hours of such cycles | EPA | PSD Permit Modification | August 17, 2011.
Woodbridge Energy Center | Woodbridge Township, NJ | Two General Electric Company 7 FA combined-cycle combustion turbines (211 MW each), with 2,267 MMBtu/hr heat input, two heat recovery steam generators equipped with a natural gas-fired duct burner. Supporting auxiliary equipment includes one natural gas-fired auxiliary boiler, one natural gas-fired fuel heater, one ultra low sulfur distillate (ULSD) fuel-fired emergency generator and a ULSD-fired emergency fire water pump and 19% aqueous ammonia storage tank, and one cooling tower. Control devices to both turbines include dry-low NOX combustors, SCRs, and oxidation catalysts | NJDEP | New PSD Permit | July 25, 2012.
Hess Newark Energy Center | Newark, NJ | The 655 Megawatt facility will consist of two GE 207FA.05 combined-cycle combustion turbine generators (CTGs), two heat recovery steam generators (HRSG) equipped with duct burners, and a single steam turbine generator (STG). Supporting ancillary equipment includes a natural gas-fired auxiliary boiler, a cooling tower, an emergency diesel generator, and an emergency diesel fire pump. The proposed CTGs and duct burners will be fueled exclusively by natural gas. The CTGs will utilize dry low-NOX (DLN) combustors and selective catalytic reduction (SCR) systems to control NOX emissions that meet Lowest Achievable Emission Rate (LAER). An oxidation catalyst will be used to control emissions of carbon monoxide (CO) to Best Available Control Technology (BACT) levels, as well as to control volatile organic compounds (VOC) | NJDEP | New PSD Permit | Permit issued: September 13, 2012. The Environmental Appeals Board issued an order dismissing the PSD permit appeal on November 20, 2012. PSD permit effective date: November 27, 2012.
PSEG Fossil LLC | Woodbridge Township, NJ | A modification to construct and operate a nominal 625 MW Project at the existing Sewaren Generating Station. The proposed project consists of two state of the art natural gas fired combined-cycle combustion turbine generators (CTGs), two heat recovery steam generators (HRSG) equipped with duct burners, one 300 horsepower emergency diesel fire pump; and a three-cell mechanical cooling tower | NJDEP | New PSD Permit | March 17, 2014.
Energy Answers, LLC | Arecibo, Puerto Rico | Construction and operation of the Arecibo Puerto Rico Renewable Energy Project which consists of two 1,050 tons per day (each) refuse-derived fuel municipal waste combustors, a 77 megawatt steam turbine electrical-generator, and other ancillary equipment | EPA | New PSD Permit | Original PSD permit issued: June 11, 2013. Following appeal, the Environmental Appeals Board issued an order granting voluntary remand in part and denying review in part on March 25, 2014. Remanded final PSD permit was issued and effective on April 10, 2014.

This notice lists only the facilities that have received final PSD determinations. Anyone who wishes to review these determinations and related materials should contact the following offices:

EPA Actions

U.S. Environmental Protection Agency, Region 2 Office, Air Programs Branch—25th Floor, 290 Broadway, New York, New York 10007-1866, (212) 637-4085.

NJDEP Actions

New Jersey Department of Environmental Protection, Division of Environmental Quality, Air Quality Permitting Element, Bureau of Preconstruction Permits, 401 East State Street, Trenton, New Jersey 08625, (609) 777-0286.

Pursuant to 40 CFR 124.19(l), a prerequisite to seeking judicial review of these determinations under section 307(b)(1) of the Clean Air Act (the Act) is that parties must have previously filed a petition with the EPA Environmental Appeals Board under 40 CFR 124.19(a). If the prerequisite has been met, review may be sought only by the filing of a petition for review in the United States Court of Appeals for the appropriate circuit within 60 days from the date on which these determinations are published in the Federal Register. Under section 307(b)(2) of the Act, these determinations shall not be subject to later judicial review in civil or criminal proceedings for enforcement.

Dated: May 7, 2014.
Judith A. Enck,
Regional Administrator, Region 2.

[FR Doc. 2014-11504 Filed 5-16-14; 8:45 am]

BILLING CODE 6560-50-P